DEPARTMENT OF THE INTERIOR

Bureau of Land Management

[OR-957-00-1420-BJ: GP05-0001]

Filing of Plats of Survey: Oregon/Washington

AGENCY: Bureau of Land Management, Interior.

ACTION: Notice.

SUMMARY: The plats of survey of the following described lands were officially filed in the Oregon State Office, Portland, Oregon, on August 11, 2004.

Willamette Meridian

Oregon

T. 29 S., R. 8 W., accepted May 20, 2004

T. 32½ S., R. 33 E., accepted May 20, 2004

T. 33 S., R. 33 E., accepted May 20, 2004

T. 37 S., R. 2 E., accepted May 20, 2004

T. 39 S., R. 13 W., accepted May 20, 2004

T. 15 S., R. 8 W., accepted May 28, 2004

T. 22 S., R. 10 E., accepted May 28, 2004

T. 7 S., R. 3 E., accepted June 8, 2004

T. 9 S., R. 3 E., accepted June 8, 2004

T. 12 S., R. 2 E., accepted June 8, 2004

T. 15 S., R. 7 W., accepted June 8, 2004

T. 22 S., R. 4 W., accepted June 8, 2004

T. 1 N., R. 34 E., accepted June 24, 2004

T. 23 S., R. 3 W., accepted June 24, 2004

T. 23 S., R. 4 W., accepted June 24, 2004

T. 25 S., R. 2 W., accepted June 24, 2004

T. 27 S., R. 11 W., accepted June 24, 2004

T. 33 S., R. 5 W., accepted June 24, 2004

T. 38 S., R. 4 W., accepted June 24, 2004

Washington

T. 31 N., R. 1 E., accepted May 20, 2004

T. 23 N., R. 11 W., accepted July 13, 2004

The plat of survey of the following described lands is scheduled to be officially filed in the Oregon State Office, Portland, Oregon, thirty (30) calendar days from the date of this publication.

Oregon

T. 16 S., R. 16 E., accepted September 7, 2004

T. 17 S., R. 16 E., accepted September 7, 2004

A copy of the plats may be obtained from the Public Room at the Oregon State Office, Bureau of Land Management, 333 S.W. 1st Avenue, Portland, Oregon 97204, upon required payment. A person or party who wishes to protest against a survey must file a notice that they wish to protest (at the above address) with the State Director, Bureau of Land Management, Portland, Oregon.

FOR FURTHER INFORMATION CONTACT: Chief, Branch of Geographic Sciences, Bureau of Land Management, (333 SW. 1st Avenue) P.O. Box 2965, Portland, Oregon 97208.

Dated: October 7, 2004.
Robert D. DeViney, Jr.,
Branch of Realty and Records Services.

[FR Doc. 04-23380 Filed 10-18-04; 8:45 am]

BILLING CODE 4310-33-P